Proclamation 10757 of May 10, 2024

Mother's Day, 2024

By the President of the United States of America

A Proclamation

Today, we show gratitude to moms and mother-figures for loving their children unconditionally; raising them with care, courage, and grit; and leading by the power of their example.

On my desk in the Oval Office, I have a picture of my mother, Catherine Eugenia “Jean” Finnegan, in Grant Park on the night that President Barack Obama and I won the 2008 election. That night, my mother walked on stage, took my and President Obama's hands, and said, “Come on honey, it's going to be okay.” That was my mother—fearless, caring, and ready to lend anyone the bravery that always resided in her heart. She taught my siblings and me that courage was the greatest virtue, instilled in us the belief that everyone is your equal, and inspired us to lead lives defined by honor and integrity.

I have also seen the way that my wife, First Lady Jill Biden, has put her whole heart into being a wonderful mother and grandmother. She brings our family so much joy and is the source of so many of our best memories. She has also guided our family forward through the most difficult times, always finding the strength to hold us together. Every day, she shares her heart with the students she teaches full time and so many others who find inspiration in her leadership, kindness, and wisdom.

Across the country, mothers are raising their children, caring for their families, and making history. Mothers are leaders in every field—from Main Street to Wall Street, they are driving innovation and strengthening our economy. They are the health care heroes, service members, and public servants, who sacrifice so much for all of us. They are the artists, journalists, engineers, and scientists creating new possibilities. They serve at the highest levels of my Administration, working hard to open the doors of opportunity wider for the next generation.

Moms do so much for all of us, and my Administration has their backs. During the pandemic, I signed the American Rescue Plan, which helped keep the doors open for 225,000 child care providers so families could go to work while their children were cared for. At the same time, we expanded the Child Tax Credit, giving moms and families some breathing room—which helped slash child poverty rates in half during my first year in office. My Administration is also making sure that the good-paying jobs from our once-in-a-generation investments in infrastructure and clean energy go to women, who have been underrepresented in these sectors for too long. I also signed legislation to ensure employers make reasonable accommodations for pregnant and nursing mothers, who deserve to have job security and common-sense workplace protections—such as breaks to drink water, eat, rest, or use the restroom. These protections help ensure that pregnant workers and new moms do not have to choose between their job and their health.

My Administration is working to make sure that mothers have access to the health care they need. With the leadership of Vice President Kamala Harris, we released a Blueprint for Addressing the Maternal Health Crisis, which outlines actions the Federal Government will take to combat maternal mortality and improve maternal health. Further, the American Rescue Plan also gave States the option to provide a full year of postpartum coverage to women on Medicaid, increasing it from just 60 days previously. Now, 46 States, Washington, D.C., and the United States Virgin Islands provide a full year of this critical care.

This Mother's Day, may we all show gratitude to our mothers, who are our rocks, believing in us so that we may believe in ourselves. May we pray for those who have lost their mothers and miss their comfort each day and for the mothers who have lost a child—a piece of their soul. May we wholeheartedly support the countless mothers across the country who work tirelessly to make the American Dream real for their children and families.

The Congress, by joint resolution approved May 8, 1914 (38 Stat. 770), has designated the second Sunday in May each year as “Mother's Day” and requested the President to call for its appropriate observance.

NOW, THEREFORE, I, JOSEPH R. BIDEN JR., President of the United States of America, do hereby proclaim May 12, 2024, as Mother's Day. I urge all Americans to express their love, respect, and gratitude to mothers everywhere. I call upon all citizens to observe this day with appropriate programs, ceremonies, and activities.

IN WITNESS WHEREOF, I have hereunto set my hand this tenth day of May, in the year of our Lord two thousand twenty-four, and of the Independence of the United States of America the two hundred and forty-eighth.

[FR Doc. 2024-10766

Filed 5-14-24; 8:45 am]

Billing code 3395-F4-P